DEPARTMENT OF THE INTERIOR

Fish and Wildlife Service

[FWS-R3-ES-2016-N128]; [FVES59420300000F2 14X FF03E00000]

Draft Environmental Impact Statement; Indiana Department of Natural Resources Habitat Conservation Plan

AGENCY: Fish and Wildlife Service, Interior.

ACTION: Notice of intent to prepare an environmental impact statement; notice of scoping meeting; and request for comments.

SUMMARY: Pursuant to the National Environmental Policy Act of 1969, as amended (NEPA), we are advising the public that we intend to prepare an environmental impact statement (EIS) on a proposed Endangered Species Act (ESA) incidental take permit (ITP) application from the Indiana Department of Natural Resources (IDNR), Division of Forestry (DoF) for the federally endangered Indiana bat (Myotis sodalis). We are also announcing the initiation of a public scoping process to engage Federal, Tribal, State, and local governments; special interest groups; and the public in the identification of issues and concerns, potential impacts, and possible alternatives to the proposed action.

DATES: Public scoping will begin with the publication of this NOI in the Federal Register and will continue through October 19, 2016. We will consider all comments on the scope of the EIS analysis that are received or postmarked by this date. Comments received or postmarked after this date will be considered to the extent practicable. We will conduct a public scoping meeting during the scoping period. The scoping meeting will provide the public with an opportunity to ask questions, discuss issues with Service staff regarding the EIS, and provide written comments.

• September 30th, 6:00-9:00 p.m. at the Forestry Training Center on Morgan-Monroe State Forest. Directions: from the Forest Office at 6220 Forest Road, Martinsville, IN (see Google Maps), go 0.2 miles north on Forest Road and take the first road to the left (West), go 0.4 miles and park at 2nd building on the right. The Forestry Training Center is located approx. 6 miles south of Martinsville, IN.

ADDRESSES: Send written comments via U.S. mail to the Field Supervisor, U.S. Fish and Wildlife Service, Bloomington Field Office, 620 South Walker Street, Bloomington, IN 47403-2121; by facsimile to 812-334-4273; or by electronic mail to commentbfo@fws.gov.

FOR FURTHER INFORMATION CONTACT: Andrew King, by telephone at 812-334-4261, extension 1216, or email at andrew_king@fws.gov. If you use a telecommunications device for the deaf, please call the Federal Information Relay Service at 800-877-8339.

SUPPLEMENTARY INFORMATION:

Introduction

Indiana bats were listed as an endangered species under the ESA in 1967. The decline of this species has historically been attributed to loss and degradation of winter hibernation habitat and summer roosting habitat, human disturbance during hibernation, and possibly pesticides. A recent new threat to Indiana bats is white-nose syndrome (WNS), a disease caused by the fungus Pseudogymnoascus destructans. WNS has caused significant population declines throughout much of the Indiana bat's range, particularly in the Northeast and Appalachian regions.

The DoF conducts management activities on 13 State Forests and 2 State Recreation Areas covering approximately 158,000 acres of state-owned forest land in Indiana. These activities include maintenance of recreation trails, timber harvest, tree plantings, prescribed burning, and the use of specific chemicals such as herbicides and fertilizers. Management activities on these lands are designed for long-term sustainability and to enhance forest health and diversity, create wildlife habitat, provide recreational opportunities and to generate revenue from timber harvests that contribute to local and state economies. While many forest management activities benefit the conservation and recovery of the Indiana bat, some activities may adversely impact this species and their habitat during certain life stages.

The net effect of forest management on Indiana bats may vary depending on the type, scale, and timing of various practices. Unlike forest conversion where habitat is permanently removed, the DoF's forest management practices are designed to promote and sustain suitable forested bat habitat on the landscape, and adverse impacts typically are temporary in nature. The primary potential benefit of forest management to the species is perpetuating forests on the landscape that provide suitable roosting and foraging habitat. Impacts from timber harvest, which can range from the selective removal of individual trees to small clearcuts, can range from positive (e.g., maintaining or increasing suitable roosting and foraging habitat within Indiana bat home ranges) to neutral (e.g., minor amounts of timber harvest, areas outside Indiana bats summer home ranges, away from hibernacula) to negative (e.g., death of adult female bats and/or pups resulting from accidental felling of occupied maternity roost trees). Therefore, the DoF is developing a Habitat Conservation Plan (HCP) in support of an ITP that would authorize the incidental take of Indiana bats from certain forest management activities on State Forest lands within the State of Indiana.

The HCP will incorporate avoidance, minimization, mitigation, monitoring, and reporting measures aimed at addressing the impact of take caused by certain forest and property management activities occurring on approximately 158,000 acres of state-owned land managed by the DoF. The forest and property management activities included in the DoF HCP are timber harvesting, prescribed burning, timber stand improvement, and the construction and maintenance of roads, trails, and recreation and operational facilities. Potential measures to avoid, minimize, and mitigate impacts to Indiana bats may include, but are not limited to, retention of potential roost trees, sustained supply of future roost trees, protection of known roost trees, leave-tree designation near perennial streams, seasonal tree-felling restrictions around known hibernacula, and set-back distances for the protection of hibernacula entrances. The requested term of the ITP is 20 years.

Habitat Conservation Plans and Incidental Take Permits

Section 9 of the ESA prohibits “take” of fish and wildlife species listed as endangered under section 4 (16 U.S.C. 1538, and 1533, respectively). The ESA implementing regulations extend, under certain circumstances, the prohibition of take to threatened species (50 CFR 17.31). Under section 3 of the ESA, the term “take” means to harass, harm, pursue, hunt, shoot, wound, kill, trap, capture, or collect, or attempt to engage in any such conduct (16 U.S.C. 1532(19)).

Under section 10 of the ESA, the Service may issue permits to authorize incidental take of federally listed fish and wildlife species. “Incidental take” is defined by the ESA as “take that is incidental to, and not the purpose of, carrying out an otherwise lawful activity.” To obtain an ITP, an applicant must submit an HCP to the Service that specifies (1) the impact that will likely result from the taking; (2) what steps the applicant will take to monitor, minimize and mitigate the impacts, the funding that will be available to implement such steps and the procedures to be used to deal with changed circumstances; (3) what alternative actions to the taking the applicant considered and the reasons why the alternatives are not being utilized; and (4) how the applicant will carry out any other measures that we may require as being necessary or appropriate for purposes of the HCP. 50 CFR 17.22(b)(1)(iii); 50 CFR 17.32(b)(1)(iii)(C). If we find, after opportunity for public comment, with respect to the permit application and the related HCP that (1) the taking will be incidental; (2) the applicant will, to the maximum extent practicable, minimize and mitigate the impacts of such taking; (3) the applicant will ensure that adequate funding for the HCP will be provided, as well as procedures to deal with unforeseen circumstances; (4) the taking will not appreciably reduce the likelihood of the survival and recovery of the species in the wild; and (5) the measures, if any, required by us will be carried out; and we have received assurances that the plan will be implemented, then we will issue the DoF its requested permit. 50 CFR 17.22, 17.32(b)(2)(i).

The purpose of an HCP and subsequent issuance of an ITP is to authorize the incidental take of threatened or endangered species, not to authorize the underlying activities that result in take. This process ensures that the effects of the authorized incidental take will be adequately minimized and mitigated to the maximum extent practicable (Final Handbook for Habitat Conservation Planning and Incidental Take Permitting Process (61 FR 63854, December 2, 1996)).

Environmental Impact Statement

NEPA (42 U.S.C. 4321 et seq.) requires that Federal agencies conduct an environmental analysis of their proposed actions to determine if the actions may significantly affect the human environment. Based on 40 CFR 1508.27 and 40 CFR 1508.2, we have determined that issuance of an ITP to the DoF, including implementation of its proposed HCP (i.e., proposed action), may have significant impacts on the human environment. Therefore, before deciding whether to issue an ITP to the IDNR, we will prepare an EIS to analyze the environmental impacts associated with that action. The EIS will also include an analysis of a reasonable range of alternatives to the proposed action. Alternatives considered in the EIS may include, but are not limited to, variations in the permit term or permit structure; the level of take allowed; the level, location, or type of conservation, monitoring, or mitigation provided in the HCP; the scope of covered activities; or a combination of these factors. Additionally, a “no-action” alternative will be included that assesses the anticipated effects of not issuing an ITP for the DoF's management activities.

Request for Information

We request data, comments, information, and suggestions from the public, other concerned governmental agencies, the scientific community, Tribes, industry, and any other interested party on this notice. We will consider all comments we receive with respect to complying with the requirements of NEPA and the development of the HCP and ITP. We seek comments particularly related to:

(1) Information concerning the range, distribution, population size, and population trends of Indiana bats and other federally listed species in Indiana;

(2) Additional biological information concerning Indiana bats and other federally listed species that occur in Indiana that could be affected by activities on State-owned forest land;

(3) Relevant data and information concerning timber management practices and bat interactions;

(4) Current or planned forest management activities and their possible impacts on Indiana bats and other federally listed species in Indiana;

(5) The presence of facilities within the project planning area that are eligible to be listed on the National Register of Historic Places, or whether other historical, archeological, or traditional cultural properties may be present; and

(6) Any other environmental issues that we should consider with regard to the HCP coverage area and potential ITP issuance.

Next Steps

We are seeking information to assist us in the development of the EIS and the associated HCP. We will develop a draft EIS based on a complete ITP application, draft HCP, and public comments received through this early scoping effort. We may solicit additional public, agency, and Tribal input to identify the nature and scope of the potentially significant environmental issues that should be addressed in the EIS. We will publish a notice of availability for the draft EIS and draft HCP, and seek additional public comments, before completing our final analysis to determine whether to issue an ITP to the DoF.

Public Availability of Comments

All comments received, including names and addresses, will become part of the administrative record and will be available to the public. Before including your address, phone number, electronic mail address, or other personal identifying information in your comment, you should be aware that your entire comment—including your personal identifying information—will be publicly available. If you submit a hardcopy comment that includes personal identifying information, you may request at the top of your document that we withhold this information from public review. However, we cannot guarantee that we will be able to do so.

Authority

We provide this notice under section 10 of the ESA (16 U.S.C. 1531 et seq.) and per NEPA regulations (40 CFR 1501.7, 1506.5, and 1508.22).

Dated: August 22, 2016.
Lori H. Nordstrom,
Assistant Regional Director, Ecological Services, Midwest Region.

[FR Doc. 2016-22455 Filed 9-16-16; 8:45 am]

BILLING CODE 4333-15-P